FEDERAL MARITIME COMMISSION

Ocean Transportation Intermediary License; Revocation

The Federal Maritime Commission hereby gives notice that the following Ocean Transportation Intermediary license has been revoked pursuant to section 19 of the Shipping Act of 1984 (46 U.S.C. Chapter 409) and the regulations of the Commission pertaining to the licensing of Ocean Transportation Intermediaries, 46 CFR part 515, effective on the corresponding date shown below:

License Number: 004621F.

Name: Global Forwarding, Inc. dba Global Connection.

Address: 305 Joyce Avenue, Arcadia, CA 91006.

Date Revoked: February 10, 2012.

Reason: Failed to maintain a valid bond.

License Number: 016207N.

Name: Admiral Overseas Shipping Company, Inc.

Address: 323 South Swing Road, Greensboro, NC 27409.

Date Revoked: January 28, 2012.

Reason: Failed to maintain a valid bond.

License Number: 018164N.

Name: Cibao Cargo, Inc.

Address: 1345 Cromwell Avenue, Bronx, NY 10452.

Date Revoked: February 2, 2012.

Reason: Failed to maintain a valid bond.

License Number: 1900F.

Name: U.S.A. Shipping Corporation.

Address: 1890 NW 82nd Avenue, Suite 101, Miami, FL 33126.

Date Revoked: February 4, 2012.

Reason: Failed to maintain a valid bond.

License Number: 020275N.

Name: Global Tech Investments, L.L.C. dba Global Freight Forwarding.

Address: 1851 Central Place South, Suite 122, Kent, WA 98030.

Date Revoked: February 9, 2012.

Reason: Failed to maintain a valid bond.

License Number: 020479F.

Name: Karon Jones dba Keene Machinery and Export.

Address: 425 Sandy Lane, Dublin, TX 76446.

Date Revoked: February 11, 2012.

Reason: Failed to maintain a valid bond.

License Number: 020527NF.

Name: Fast Logistics, Inc.

Address: 3350 SW 3rd Avenue, Suite 207, Fort Lauderdale, FL 33315.

Date Revoked: February 1, 2012.

Reason: Failed to maintain valid bonds.

License Number: 021014N.

Name: Magic Transport, Inc.

Address: Pepsi Industrial Park, PR-2, KM 19.5, Interior BO Candelaria, Toa Baja, PR 00949.

Date Revoked: February 2, 2012.

Reason: Failed to maintain a valid bond.

License Number: 021869F.

Name: Merco Air & Ocean Cargo, Inc.

Address: 6 Fir Way, Cooper City, FL 33026.

Date Revoked: February 1, 2012.

Reason: Failed to maintain a valid bond.

Vern W. Hill,
Director, Bureau of Certification and Licensing.

[FR Doc. 2012-4944 Filed 2-29-12; 8:45 am]

BILLING CODE 6730-01-P